DEPARTMENT OF AGRICULTURE

Agricultural Marketing Service

[Doc. No. AMS-PY-11-0064]

Regulations for the Inspection of Eggs (Shell Egg Surveillance), Request for Extension and Revision of a Currently Approved Information Collection

AGENCY: Agricultural Marketing Service, USDA.

ACTION: Request for comments.

SUMMARY: In accordance with the Paperwork Reduction Act of 1995, this document announces the Agricultural Marketing Service's (AMS) intention to request approval from the Office of Management and Budget, for an extension of and revision to a currently approved information collection in support of the shell egg surveillance portion of the Regulation for the Inspection of Eggs—7 CFR part 57.

DATES: Comments received by November 7, 2011 will be considered.

ADDRESSES: Interested persons are invited to submit written comments on the Internet at http://www.regulations.gov or to David Bowden, Jr., Chief; Standards, Promotion & Technology Division; Poultry Programs, AMS, U.S. Department of Agriculture; 1400 Independence Avenue, SW., Stop 0259; Washington, DC 20250-0259, fax (202) 720-2930. Comments should reference the document number (AMS-PY-11-0064) and the date and page number of this issue of the Federal Register. Comments will be available for public inspection at the above address during regular business hours, or can be viewed at: http://www.regulations.gov. All comments received will be posted without change, including any personal information provided.

All responses to this document will be summarized and included in the request for OMB approval. All comments will become a matter of public record.

FOR FURTHER INFORMATION CONTACT: Contact Sara Lutton, Standards, Promotion, & Technology Division; Poultry Programs, AMS, U.S. Department of Agriculture; 1400 Independence Avenue, SW., Stop 0259; Washington, DC 20250-0259; phone (202) 720-0976; fax (202) 720-2930.

SUPPLEMENTARY INFORMATION: Title: Regulations for the Inspection of Eggs (Egg Products Inspection Act).

OMB Number: 0581-0113.

Expiration Date of Approval: March 31, 2012.

Type of Request: Extension and revision of a currently approved information collection.

Abstract: Congress enacted the Egg Products Inspection Act (21 U.S.C. 1031-1056 (EPIA)) to provide, in part, a mandatory inspection program to control the disposition of dirty and checked shell eggs; to control unwholesome, adulterated, and inedible shell eggs that are unfit for human consumption; and to control the movement and disposition of imported shell eggs.

The EPIA authorizes the Department to issue regulations, to assure that only eggs fit for human food are used for such purposes.

Under the shell egg surveillance program, shell egg handlers are required to register with USDA. Quarterly, a State or Federal surveillance inspector visits each registered handler to verify that shell eggs packed for consumer use are in compliance, that restricted eggs are being disposed of properly, and that adequate records are being maintained.

The information and recordkeeping requirements in this request are essential to carry out the intent of Congress, to administer the mandatory inspection program, and to take regulatory action, in accordance with the regulations and the EPIA. The forms within this collection package require the minimum information necessary to effectively carry out the requirements of the regulations, and their use is necessary to fulfill the intent of the EPIA.

The information collected is used only by authorized representatives: AMS, Poultry Programs' national staff; regional directors and their staffs; Federal-State supervisors and their staffs; and resident Federal-State graders, which includes State agencies. The information is used to assure compliance with the EPIA and the regulations and to facilitate regulatory action. The Agency is the primary user of the information; secondary users include each authorized State agency that have a cooperative agreement with AMS.

Estimate of Burden: Public reporting burden for this collection of information is estimated to average 0.31 hours per response.

Respondents: State or local governments, businesses or other for-profit, Federal agencies or employees, small businesses or organizations.

Estimated Number of Respondents: 853.

Estimated Number of Responses: 6,274.

Estimated Number of Responses per Respondent: 7.35.

Estimated Total Annual Burden on Respondents: 1936.58.

Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology.

Dated: September 2, 2011.
David Shipman,
Acting Administrator.

[FR Doc. 2011-22943 Filed 9-7-11; 8:45 am]

BILLING CODE 3410-02-P